DEPARTMENT OF HOMELAND SECURITY

[Docket No. DHS-2014-0045]

Homeland Security Advisory Council—New Tasking

AGENCY: The Office of Policy, DHS.

ACTION: Notice of task assignment for the Homeland Security Advisory Council.

SUMMARY: The Secretary of the Department of Homeland Security (DHS), Jeh Johnson tasked his Homeland Security Advisory Council (HSAC) to establish a DHS Employee Morale Task Force on Thursday, October 9, 2014. The DHS Employee Morale Task Force will provide recommendations on how to improve employee morale throughout the DHS enterprise. This notice informs the public of the establishment of the DHS Employee Morale Task Force and is not a solicitation for membership.

FOR FURTHER INFORMATION CONTACT: Mike Miron, Director, Homeland Security Advisory Council and the DHS Employee Morale Task Force at 202-447-3135 or mike.miron@dhs.gov.

SUPPLEMENTARY INFORMATION: The Homeland Security Advisory Council provides organizationally independent, strategic, timely, specific, and actionable advice and recommendations for the consideration of the Secretary of the Department of Homeland Security on matters related to homeland security. The Homeland Security Advisory Council is comprised of leaders of local law enforcement, first responders, state and local government, the private sector, and academia.

Tasking: The DHS Employee Morale Task Force should develop findings and recommendations in the following topic areas. The DHS Employee Morale Task Force should address, among other closely related topics, the following questions: (1) What are the core or root causes of continued low morale in the Department of Homeland Security? (2) How can DHS strengthen its leadership cadre, in order to both enhance mission effectiveness and also increase employee morale? (3) How can DHS work as a whole, across the agencies and recognizing their distinct cultures, to build a greater sense of belonging and improve employee morale? (4) Referencing the 2007 HSAC DHS Morale Assessment: which of those recommendations were successfully implemented? For those items that were not but still remain relevant, what changes should be made to increase the likelihood of successful implementation and organizational adoption?

Schedule: The DHS Employee Morale Task Force's findings and recommendations will be submitted to the Homeland Security Advisory Council for their deliberation and vote during a public meeting. Once the report is approved it will be sent to the Secretary for his review and acceptance. DHS Employee Morale Task Force findings and recommendations should be submitted to the Homeland Security Advisory Council no later than nine months after the publication of the date of this tasking.

Dated: October 21, 2014.
Ben Haiman,
Deputy Executive Director, Homeland Security Advisory Council, DHS.

[FR Doc. 2014-25660 Filed 10-28-14; 8:45 am]

BILLING CODE 9110-9M-P